DEPARTMENT OF COMMERCE

International Trade Administration

Initiation of Antidumping and Countervailing Duty Administrative Reviews and Requests for Revocation in Part

AGENCY: Import Administration, International Trade Administration, Department of Commerce.

ACTION: Notice of Initiation of Antidumping and Countervailing Duty Administrative Reviews and Requests for Revocation in Part.

SUMMARY: The Department of Commerce (the Department) has received requests to conduct administrative reviews of various antidumping and countervailing duty orders and findings with July anniversary dates. In accordance with the Department's regulations, we are initiating those administrative reviews. The Department also received requests to revoke one antidumping duty order in part and one countervailing duty order in part.

EFFECTIVE DATE: August 29, 2005.

FOR FURTHER INFORMATION CONTACT: Sheila E. Forbes, Office of AD/CVD Operations, Office 4, Import Administration, International Trade Administration, U.S. Department of Commerce, 14th Street and Constitution Avenue, N.W., Washington, D.C. 20230, telephone: (202) 482-4697.

SUPPLEMENTARY INFORMATION:

Background

The Department has received timely requests, in accordance with 19 CFR

351.213(b)(2002), for administrative reviews of various antidumping and countervailing duty orders and findings with July anniversary dates. The Department also received timely requests to revoke in part the antidumping duty order on Individually Quick Frozen (“IQF”) Red Raspberries from Chile and the countervailing duty order on Certain Pasta from Italy.

Initiation of Reviews:

In accordance with 19 CFR 351.221(c)(1)(i), we are initiating administrative reviews of the following antidumping and countervailing duty orders and findings. We intend to issue the final results of these reviews not later than July 31, 2006.

Antidumping Duty Proceedings | Period to be Reviewed
BRAZIL: Silicon Metal
A-351-806 | 7/1/04 - 6/30/05
Camargo Correa Metais S.A.
Ligas de Aluminio S.A.
Companhia Ferroligas de Minas Gerais - Minasligas
CHILE: Individual Quick Frozen Red Raspberries
A-337-806 | 7/1/04 - 6/30/05
Agricola Nova Ltda.
Agroindustria Sagrada Familia Ltda.
Agroindustria Frisac Ltda.
Agroindustria Frutos del Maipo Ltda.
Agroindustria Merco Trading Ltda.
Agross S.A.
Alimentos Naturales Vitalfoods, S.A.
Alimentos Prometeo Ltda.
Alimentos y Frutos S.A.
Andesur S.A.
Angloeuro Comercio Exterior S.A.
Armijo Carrasco, Claudio del Carmen
Arvalan S.A.
Bajo Cero S.A.
Certified Pure Ingredients (Chile) Inc. y Cia., Ltda.
Chile Andes Foods S.A.
Comercializadora Agricola Berries & Fruit Ltda.
Comercializadora de Alimentos del Sur Ltda.
Comercio y Servicios S.A.
Copefrut S.A.
C y C Group S.A.
Exportaciones Meyer S.A.
Multifrigo Valparaiso S.A.
Exportadora Pentagro S.A.
Exportadora South Berries Ltda.
Exportadora Fragaria Ltda.
Agroindustria Framberry Ltd.
Francisco Nancuvilu Punsin
Frigorifico Ditzler Ltda.
Frutas de Guaico S.A.
Fruticola Olmue S.A.
Fruticola Viconto S.A.
Hassler Monckeberg S.A.
Hortifrut S.A.
Interagro Comercio Y Ganado S.A.
Kugar Export Ltda. (Kulenkampff & Gardeweg Ltda.)
Maria Teresa Ubilla Alarcon
Prima Agrotrading Ltda.
Procesadora y Exportadora de Frutas y Vegetales Ltda.
Santiago Comercio Exterior Exportaciones Ltda.
Sociedad Agricola Valle del Laja Ltda.
Sociedad Agroindustrial Valle Frio Ltda.
Sociedad Comercial C y C, S.A.
Sociedad Exportaciones Antiquina Ltda.
Sociedad San Ernesto Ltda.
Surfrut
Terra Natur S.A.
Terrazas Export S.A.
Valles Andinos S.A.
Vital Berry Marketing S.A.
Rio Teno S.A.
Nevada Export S.A.
Agrofruta Chilena Ltda.
Agroindustrias San Francisco Ltda.
Agroindustria Niquen Ltda.
Agroindustria y Frigorifico M y M Ltda.
Agrocomercial Las Tinajas Ltda.
GERMANY: Stainless Steel Sheet and Strip in Coils
A-428-825 | 7/1/04 - 6/30/05
ThyssenKrupp Nirosta GmbH
ThyssenKrupp Nirosta Prazisionsband GmbH
Thyssen Krupp VDM GmbH
INDIA: Polyethylene Terephthalate (PET) Film
A-533-824 | 7/1/04 - 6/30/05
Garware Polyester Limited
Jindal Poly Films Limited of India (formerly Jindal Polyester Limited)
MTZ Polyfilms, Ltd.
Polyplex Corporation Ltd.
ITALY: Certain Pasta
A-475-818 | 7/1/04 - 6/30/05
Atar S.r.L.
Barilla Alimentare, S.p.a.
Corticella Molini e Pastifici S.p.a./Pasta Combattenti S.p.a.
Italpasta, S.p.A.
Moline e Pastificio Tomasello S.r.L.
Pastificio Antonio Pallante, S.r.L./Industrie Alimentari Molisane, S.r.L./
Vitelli Foods, LLC
Pastificio Laporta S.a.s.
ITALY: Stainless Steel Sheet and Strip in Coils
A-475-824 | 7/1/04 - 6/30/05
Thyssen Krupp Acciai Speciali Terni S.p.A.
JAPAN: Stainless Steel Sheet and Strip in Coils
A-588-845 | 7/1/04 - 6/30/05
Kawasaki Steel Corporation (and its alleged sucessor-in-interest JFE Steel Corp.)
MEXICO: Stainless Steel Sheet and Strip in Coils
A-201-822 | 7/1/04 - 6/30/05
ThyssenKrupp Mexinox S.A. de C.V.
SOUTH KOREA: Stainless Steel Sheet and Strip in Coils
A-580-834 | 7/1/04 - 6/30/05
BNG Steel Co., Ltd. (formerly Sammi Steel Co.)
Boorim Corporation
Dae Kyung Corporation
DaiYang Metal Co., Ltd.
Dine Trading Co., Ltd.
Dosko Co., Ltd.
Hyundai Corporation
NIC International Co., Ltd.
Pohang Iron & Steel Co., Ltd.
Samkyung Corporation
Sammi Corporation
Sun Woo Tech Company
TAIWAN: Stainless Steel Sheet and Strip in Coils
A-583-831 | 7/1/04 - 6/30/05
Ta Chen Stainless Pipe Co., Ltd.
Yieh United Steel Corporation
Chia Far Industrial Factory Co., Ltd.
China Steel Corporation
Emerdex Stainless Flat-Rolled Products, Inc.
Emerdex Stainless Steel, Inc.
Emerdex Group
Tang Eng Iron Works
PFP Taiwan Co., Ltd.
Yieh Loong Enterprise Co., Ltd.(aka Chung Hung Steel Co., Ltd.)
Yieh Trading Corp.
Goang Jau Shing Enterprise Co., Ltd.
Yieh Mau Corp.
Chien Shing Stainless Co.
Chain Chon Industrial Co., Ltd.
THAILAND: Canned Pineapple
A-549-813 | 7/1/04 - 6/30/05
Tropical Food Industries Co., Ltd.
The Prachuab Fruit Canning Company
Vita Food Factory (1989) Co., Ltd.
THAILAND: Furfuryl Alcohol
A-549-812 | 7/1/04 - 6/30/05
Indorama Chemicals Thailand Ltd.
THE PEOPLE'S REPUBLIC OF CHINA: Persulfates
A-570-847 | 7/1/04 - 6/30/05
Shanghai AJ Import and Export Corporation
Degussa-AJ (Shanghai) Initiators Co., Ltd.
THE PEOPLE'S REPUBLIC OF CHINA: Tapered Roller Bearings
A-570-601 | 6/1/04 - 5/31/05
Wanxiang Group Company
Countervailing Duty Proceedings
ITALY: Certain Pasta
C-475-819 | 1/1/04 - 12/31/04
Atar S.r.L.
Corticella Molini e Pastifici S.p.a./Pasta Combattenti S.p.a.
Moline e Pastificio Tomasello S.r.L.
Pastificio Antonio Pallante, S.r.L.
Pastificio Laporta S.a.s.
Pasta Lensi S.r.l.
INDIA: Polyethylene Terephthalate (PET) Film
C-533-825 | 1/1/04 - 12/31/04
Garware Polyester Limited
Jindal Poly Films Limited of India (formerly Jindal Polyester Limited)
Polyplex Corporation Ltd.
TURKEY: Pasta
C-489-806 | 1/1/04 - 12/31/04
Gidasa Sabanci Gida Sanayi ve Ticaret A.S.
Suspension Agreements
None.

During any administrative review covering all or part of a period falling between the first and second or third and fourth anniversary of the publication of an antidumping order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: August 23, 2005.
Holly A. Kuga,
Senior Office Director AD/CVD Operations, Office 4 for Import Adminstration.

[FR Doc. E5-4717 Filed 8-26-05; 8:45 am]

BILLING CODE 3510-DS-S